DEPARTMENT OF ENERGY

Federal Energy Regulatory Commission

[Project No. 13401-000]

Hydro Energy Technologies, LLC; Notice of Preliminary Permit Application Accepted for Filing and Soliciting Comments, Motions To Intervene, and Competing Applications

May 1, 2009.

On March 19, 2009, Hydro Energy Technologies, LLC filed an application, pursuant to section 4(f) of the Federal Power Act, proposing to study the feasibility of the Southerly Waste Water Treatment Plant Hydroelectric Project, to be located on Cuyahoga River, in Cuyahoga County, Ohio.

The proposed Southerly Waste Water Treatment Plant Hydroelectric Project would be located at the existing Southerly Waste Water Treatment Plant outfall and box culvert owned by the Northeast Ohio Regional Sewer District.

The proposed project would consist of: (1) One or more turbine/generators with total installed capacity of 250 megawatts to be attached directly to the treatment plant's outfall; (2) a new 20-foot-long transmission line; and (3) appurtenant facilities. The Southerly Waste Water Treatment Plant Project would have an estimated average annual generation of 1,166 megawatts-hours, which would be sold to a local utility.

Applicant Contact: Mr. Anthony J. Marra Jr., President, Hydro Energy Technologies, LLC, 31300 Solon Rd. Suite 12, Solon, OH 44139, (440) 498-1000.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE, Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13401) in the docket number field to access the document. For assistance, call toll-free 1-866-208-3372.

Kimberly D. Bose,
Secretary.

[FR Doc. E9-10698 Filed 5-7-09; 8:45 am]

BILLING CODE P